DEPARTMENT OF HEALTH AND HUMAN SERVICES

National Institutes of Health

Center for Scientific Review; Amended Notice of Meeting

Notice is hereby given of a change in the meeting of the Center for Scientific Review Special Emphasis Panel, November 5, 2003, 8:30 a.m. to November 6, 2003, 10 a.m., Hyatt Regency Bethesda, One Bethesda Metro Center, 7400 Wisconsin Avenue, Bethesda, MD 20814 which was published in the Federal Register on October 31, 2003, 68 FR 62092-62094.

The meeting will be one day only November 5, 2003, from 8:30 a.m. to 6 p.m. The location remains the same. The meeting is closed to the public.

Dated: November 4, 2003.
LaVerne Y. Stringfield,
Director, Office of Federal Advisory Committee Policy.

[FR Doc. 03-28277 Filed 11-10-03; 8:45 am]

BILLING CODE 4140-01-M